ENVIRONMENTAL PROTECTION AGENCY

40 CFR Part 90

Control of Emissions From Nonroad Spark-Ignition Engines at or Below 19 Kilowatts

CFR Correction

In Title 40 of the Code of Federal Regulations, Parts 87 to 95, revised as of July 1, 2014, on page 199, in § 90.116, after paragraph (a) and before the first paragraph (1), add paragraph (b) introductory text to read as follows: “(b) Engines will be divided into classes by the following:”.

[FR Doc. 2015-09241 Filed 4-21-15; 8:45 am]

BILLING CODE 1505-01-D